NATIONAL AERONAUTICS AND SPACE ADMINISTRATION

[Notice 03-025]

NASA Advisory Council, Space Science Advisory Committee; Solar System Exploration Subcommittee Meeting

AGENCY: National Aeronautics and Space Administration (NASA).

ACTION: Notice of meeting.

SUMMARY: In accordance with the Federal Advisory Committee Act, Pub. L. 92-463, as amended, the National Aeronautics and Space Administration announces a forthcoming meeting of the NASA Advisory Council (NAC), Space Science Advisory Committee (SScAC), Solar System Exploration Subcommittee (SSES).

DATES: Thursday, March 6, 2003, 8:30 a.m. to 5:30 p.m., and Friday, March 7, 2003, 8:30 a.m. to Noon.

ADDRESSES: University of Arizona, Space Sciences Building 92, Room 309, 1629 East University, Tucson, Arizona 85719.

FOR FURTHER INFORMATION CONTACT: Ms. Marian Norris, Code SB, National Aeronautics and Space Administration, Washington, DC 20546, (202) 358-4452.

SUPPLEMENTARY INFORMATION: The meeting will be open to the public up to the capacity of the room. The agenda for the meeting includes the following topics:

—Briefing on FY 2004 Budget;

—Status of Solar System Exploration;

—Status of Mars Exploration Program;

—Status of Project Prometheus;

—Discussion of Draft 2003 Space Science Strategic Plan;

It is imperative that the meeting be held on these dates to accommodate the scheduling priorities of the key participants. Visitors will be requested to sign a visitor's register.

June W. Edwards,
Advisory Committee Management Officer, National Aeronautics and Space Administration.

[FR Doc. 03-4438 Filed 2-25-03; 8:45 am]

BILLING CODE 7510-01-P